DEPARTMENT OF ENERGY

Federal Energy Regulatory Commission

[Docket No. AD19-9-000]

Electric Quarterly Report Users Group Meeting; Notice of Electric Quarterly Report Users Group Meeting

Take notice that on February 14, 2019, staff of the Federal Energy Regulatory Commission (Commission) will hold the next Electric Quarterly Report (EQR) Users Group meeting. The meeting will take place from 1:00 p.m. to 5:00 p.m. (EST) in the Commission Meeting Room at 888 First Street NE, Washington, DC 20426. All interested persons are invited to attend. For those unable to attend in person, access to the meeting will be available via webcast.

This meeting provides a forum for dialogue between Commission staff and EQR users to discuss potential improvements to the EQR program and the EQR filing process. Prior to the meeting, staff would like input on discussion topics. Individuals may suggest agenda topics for consideration by emailing EQRUsersGroup@ferc.gov.

Please note that matters pending before the Commission and subject to ex parte limitations cannot be discussed at this meeting. An agenda of the meeting will be provided in a subsequent notice.

Due to the nature of the discussion, those interested in participating are encouraged to attend in person. All interested persons (whether attending in person or via webcast) are asked to register online at https://www.ferc.gov/whats-new/registration/02-14-19-form.asp. There is no registration fee. Anyone with internet access can listen to the meeting by navigating to www.ferc.gov' s Calendar of Events, locating the EQR Users Group Meeting on the Calendar, and clicking on the link to the webcast. The webcast will allow persons to listen to the technical conference and they can email questions during the meeting to EQRUsersGroup@ferc.gov.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the EQR Users Group meeting, please contact Jeff Sanders of the Commission's Office of Enforcement at (202) 502-6455, or send an email to EQRUsersGroup@ferc.gov.

Dated: December 4, 2018.
Kimberly D. Bose,
Secretary.

[FR Doc. 2018-26999 Filed 12-12-18; 8:45 am]

BILLING CODE 6717-01-P